NUCLEAR REGULATORY COMMISSION

[NRC-2009-0402; Docket No. 50-250]

Florida Power & Light; Notice of Withdrawal of Application for Amendment to Facility Operating License

The U.S. Nuclear Regulatory Commission (the Commission) has granted the request of Florida Power & Light (the licensee) to withdraw its September 1, 2009, application for proposed amendment to Facility Operating License No. DPR-31 for the Turkey Point Nuclear Generating Unit No. 3, located in Florida City, Florida.

The proposed amendment would have revised Licenses DPR-31 and DPR-41 of the dates specified in License Amendments 234 and 229 for the implementation of the Boraflex Remedy in the Turkey Point Units 3 and 4 spent fuel pools.

The Commission had previously issued a Notice of Consideration of Issuance of Amendment published in the Federal Register on September 15, 2009 (74 FR 47278). However, by letter dated November 9, 2009, the licensee withdrew the proposed change for Unit 3. The requested amendment for Unit 4 was issued on November 13, 2009. The licensee will submit a separate application to update the licensing basis for the Unit 3 spent fuel pool.

For further details with respect to this action, see the application for amendment dated September 1, 2009, and the licensee's letter dated November 9, 2009, which withdrew the application for license amendment for Unit 3. Documents may be examined, and/or copied for a fee, at the NRC's Public Document Room (PDR), located at One White Flint North, Room O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 24th day of November 2009.
For the Nuclear Regulatory Commission.
Jason C. Paige,
Project Manager, Plant Licensing Branch II-2, Division of Operating Reactor Licensing, Office of Nuclear Reactor Regulation.

[FR Doc. E9-28655 Filed 11-30-09; 8:45 am]

BILLING CODE 7590-01-P